DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on June 6, 2013 (Federal Register/Vol. 78, No. 109/pp. 34152-34154).

DATES: Submit comments to the Office of Management and Budget (OMB) on or before July 11, 2014.

FOR FURTHER INFORMATION CONTACT: Alan Block at the National Highway Traffic Safety Administration, Office of Behavioral Safety Research (NTI-131), W46-499, Department of Transportation, 1200 New Jersey Avenue SE., Washington, DC 20590. Mr. Block's phone number is 202-366-6401 and his email address is alan.block@dot.gov.

SUPPLEMENTARY INFORMATION:

OMB Control Number: 2127-0645.

Type of Request: Reinstatement with change.

Title: Motor Vehicle Occupant Safety Survey (MVOSS).

Form No.: NHTSA Form 1020A and NHTSA Form 1020B.

Type of Review: Regular.

Respondents: NHTSA proposes to conduct the Motor Vehicle Occupant Safety Survey (MVOSS) among national probability samples of adults age 16 and older. The survey is composed of two questionnaires, each of which will be administered to independently drawn samples of respondents. The survey will use Web as the primary response mode, with mail and telephone as alternative response modes. Prior to the survey, there will be usability tests of each of the three response modes to assess the interface between survey and respondent. The usability tests will be conducted with a convenience sample of adults. There also will be a pilot test of the survey. The pilot test will be conducted with a sample of randomly selected people age 16 and older. Full administration of the survey will be conducted with probability-based samples of people ages 16 and older drawn from an address-based sampling (ABS) frame.

Estimated Number of Respondents: There will be 60 respondents participating in the usability tests. The pilot test will have a total drawn sample of 3,000. The response rate it will achieve is unknown, but for purposes of burden estimation this project will assume a response rate upper limit of 50%. The estimated total number of respondents is therefore 1,500. For the full administration of the survey, there will be two versions of the questionnaire, one focusing on seat belts and the other focusing on child restraint use. Sufficient sample will be drawn to complete 6,000 interviews per questionnaire, for a total of 12,000 completed interviews.

Estimated Time per Response: Average duration per respondent for the usability tests will be two hours. Average duration per respondent for both the pilot test and the full administration of the survey will be 15 minutes.

Total Estimated Annual Burden Hours: The total estimated annual burden for the usability tests is 60 subjects × 2 hours = 120 hours. The total estimated annual burden for the pilot test is 3,000 sample × 50% response rate × 15 minutes = 375 hours. The total estimated annual burden for the full administration of the survey is 6,000 respondents × 2 questionnaires × 15 minutes = 3,000 hours. The total estimated annual burden for all three information collections combined is 3,495 hours.

Frequency of Collection: Respondents will participate a single time in the usability tests, pilot test, or survey. They will not participate in more than one of these forms of information collection. The usability tests, pilot test, and survey will be conducted a single time.

Abstract: The Motor Vehicle Occupant Safety Survey (MVOSS) is conducted on a periodic basis by the National Highway Traffic Safety Administration to obtain a status report on attitudes, knowledge, and behavior related to motor vehicle occupant protection. It was last conducted in 2007. The survey is composed of two questionnaires, each administered to a randomly selected sample of approximately 6,000 persons age 16 and older. One questionnaire focuses on seat belt issues while the other focuses on child restraint use. Additional topics addressed by the survey include air bags, emergency medical services, wireless phone use in motor vehicles, and crash injury experience. The proposed survey is the seventh in the MVOSS series, which began in 1994. The proposed MVOSS will collect data on topics included in the preceding surveys in order to monitor change over time in the use of occupant protection devices and in attitudes and knowledge related to motor vehicle occupant safety. The survey will also include new questions that address emergent issues.

The proposed MVOSS will use a multi-mode approach that employs Web as the primary response mode, with the online technology serving to reduce length and minimize recording errors. Mail and telephone will serve as alternative response modes for respondents that choose not to participate on-line. The telephone interviewers will use computer-assisted telephone interviewing (CATI). A Spanish language translation of the questionnaires, and bilingual interviewers to conduct the telephone interviews, will be used to minimize language barriers to participation.

The multi-mode approach is a major change in methodology from previous administrations of the MVOSS, as will be the use of an address-based sampling (ABS) frame as opposed to the telephone sampling frames used during previous administrations of the MVOSS. Therefore, the full administration of the survey will be preceded by usability tests to assess the interface between survey and respondents, and a pilot test to assess the methods for each of the response modes used in the survey.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC, on June 5, 2014.
Jeff Michael,
Associate Administrator, Research and Program Development.

[FR Doc. 2014-13587 Filed 6-10-14; 8:45 am]

BILLING CODE 4910-59-P